NATIONAL ARCHIVES AND RECORDS ADMINISTRATION

Office of Presidential Libraries; Proposed Disposal of Superseded Version of Clinton Administration Electronic Mail Records

AGENCY: National Archives and Records Administration (NARA).

ACTION: Presidential Records Act notice of proposed disposal of superseded version of Clinton Administration electronic mail records; request for public comment.

SUMMARY: The National Archives and Records Administration (NARA) has identified an incomplete version of Presidential records on electronic media, housed at the National Archives at College Park, Maryland facility, as appropriate for disposal under the provisions of 44 U.S.C. 2203(f)(3). This notice describes the records and our reasons for determining that the records have insufficient administrative, historical, informational, or evidentiary value to warrant their continued preservation, in light of the fact that NARA is maintaining a comprehensive set of the same records on a different set of electronic media. NARA will review timely public comments received on this notice before making a final determination on the disposal of the records.

This notice does not constitute a final agency action, as described in 44 U.S.C. 2203(f)(3), and no Presidential records will be disposed of following this notice. NARA will publish a second notice only after it has considered any comments received during this 45-day notice. The second, 60-day notice will constitute a final agency action, in the event NARA proceeds with disposal.

DATES: Comments must be received by February 13, 2004.

ADDRESSES: Comments regarding the proposed disposal of these Presidential records must be sent in writing to the Assistant Archivist for Presidential Libraries, National Archives and Records Administration (NL), 8601 Adelphi Road, College Park, Maryland 20740-6001 or by fax to 301-837-3199; or by e-mail to sharon.fawcett@nara.gov.

FOR FURTHER INFORMATION CONTACT: Sharon Fawcett at 301-837-3250.

SUPPLEMENTARY INFORMATION: The following materials are proposed for disposal because NARA has determined that they lack continuing administrative, historical, informational, or evidentiary value.

NARA is proposing the disposition of 27,866 class 3480 magnetic tape cartridges, consisting of an incomplete set of e-mail records created from July 15, 1994 through December 1999, and originally captured on the Automated Records Management System (ARMS) as created by staff in the Executive Office of the President (EOP) during the Clinton Administration. ARMS consisted of an electronic recordkeeping system for the preservation of e-mail records and any attachments thereto, plus pager and calendar records. These cartridges were transferred to NARA at the end of the Clinton Administration.

ARMS records on the 27,866 cartridges were in turn subject to reformatting pursuant to a Memorandum of Understanding entered into between NARA and the EOP, signed on October 6 and 8, 1999, respectively (1999 MOU). Under the 1999 MOU, NARA requested that the EOP Office of Administration (OA) convert attachments from hexadecimal to native format. NARA also asked OA to format the files to contain as many records as would fit in a single file. This reformatting resulted in reducing the number of tape cartridges necessary to store the records from approximately 28,000 down to 4,000. Accordingly, OA produced and transferred to NARA a second set of approximately 4,000 tape cartridges in a NARA-preferred format.

The latter reformatted set of cartridges also reflects the results of OA conducting an extensive Tape Restoration Project (TRP), pursuant to a second MOU between NARA and OA entered into on January 11, 2001, aimed at ensuring that a comprehensive set of e-mail records from the Clinton Administration be transferred to NARA. This restoration work has been completed, and as a result a separate and comprehensive set of Clinton Administration Presidential record e-mail records, as well as pager and calendar entries, currently resides on the 4,000 cartridges, in a preservation master copy set, and in an automated database operated and maintained by NARA staff. These latter collections, which incorporate the work of the TRP, contain approximately 1 million additional e-mail records that were not originally captured by ARMS and which are not otherwise preserved on the 27,866 cartridges at issue. (E-mail records on these cartridges separately covered under the Federal Records Act have also been captured on the 4,000 cartridges and will be included in the automated database, and thus may be disposed of under existing Federal Records Act disposition authority.)

The copies of Presidential e-mail records contained on the 27,866 cartridges constitute an incomplete and superseded subset of the Presidential e-mail record series from the Clinton Administration EOP that NARA has otherwise obtained in electronic form. NARA will be fully able to respond to future access requests for Clinton Administration e-mail records from the EOP through the above-described database, and has no need or use for the additional set of these records contained on these cartridges.

Dated: December 19, 2003.
Richard L. Claypoole,
Assistant Archivist for Presidential Libraries.

[FR Doc. 03-31926 Filed 12-29-03; 8:45 am]

BILLING CODE 7515-01-P